DEPARTMENT OF THE INTERIOR

National Park Service

[NPS-WASO-NAGPRA-NPS0024191; PPWOCRADN0-PCU00RP14.R50000]

Notice of Inventory Completion: U.S. Department of the Interior, National Park Service, Tuzigoot National Monument, Camp Verde, AZ, and the Arizona State Museum, University of Arizona, Tucson, AZ; Correction

AGENCY: National Park Service, Interior.

ACTION: Notice; correction.

SUMMARY: The U.S. Department of the Interior, National Park Service, Tuzigoot National Monument, has corrected an inventory of human remains and associated funerary objects, published in a Notice of Inventory Completion in the Federal Register on April 1, 2015. This notice corrects the minimum number of individuals and number of associated funerary objects. Lineal descendants or representatives of any Indian Tribe or Native Hawaiian organization not identified in this notice that wish to request transfer of control of these human remains and associated funerary objects should submit a written request to Tuzigoot National Monument. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Tuzigoot National Monument at the address in this notice by January 5, 2018.

ADDRESSES: Dorothy FireCloud, Superintendent, Tuzigoot National Monument, P.O. Box 219, Camp Verde, AZ 86322, telephone (928) 567-5276, email dorothy_firecloud@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Tuzigoot National Monument, Clarkdale, AZ. The human remains and associated funerary objects were removed from sites in Yavapai County, AZ.

This notice is published as part of the National Park Service's administrative responsibilities under NAGPRA, 25 U.S.C. 3003(d)(3). The determinations in this notice are the sole responsibility of the Superintendent, Tuzigoot National Monument.

This notice corrects the minimum number of individuals and number of associated funerary objects published in a Notice of Inventory Completion in the Federal Register (80 FR 17486-17488, April 1, 2015). The human remains and associated funerary objects were inadvertently omitted from the published notice. Transfer of control of the human remains and the additional associated funerary objects in this correction notice has not occurred.

Correction

In the Federal Register (80 FR 17487, April 1, 2015), column 2, paragraphs 3 and 4, under the heading “Collections Under the Control of Tuzigoot National Monument,” are corrected by substituting the following paragraphs:

At an unknown date, human remains representing, at minimum, one individual were removed from Tuzigoot Extension Ruin in Yavapai County, AZ. The remains were donated to Tuzigoot National Monument by a man from the nearby town of Clarkdale. No known individuals were identified. No associated funerary objects are present.

At unknown dates, human remains representing, at minimum, eight individuals were removed from Tuzigoot Pueblo in Yavapai County, AZ. No known individuals were identified. No associated funerary objects are present.

In 1933 and 1934, human remains representing, at minimum, five individuals were removed from Hatalacva Pueblo in Yavapai County, AZ. No known individuals were identified. The nine associated funerary objects are seven bowls, one pendant, and one necklace.

In 1933 and 1934, human remains representing, at minimum, 15 individuals were removed from Tuzigoot Pueblo in Yavapai County, AZ. No known individuals were identified. The 34 associated funerary objects are 4 bone awls, 1 soil sample, 15 bowls, 8 pendants, 1 bracelet, 2 necklaces, 1 pitcher, 1 bone tool, and 1 matting fragment.

In 1952, human remains representing, at minimum, eight individuals were removed from Tuzigoot Pueblo in Yavapai County, AZ, during trail work. No known individuals were identified. The one associated funerary object is a bracelet.

In 1968, human remains representing, at minimum, four individuals were removed from Tuzigoot Pueblo in Yavapai County, AZ, during stabilization work to the Pueblo. No known individuals were identified. No associated funerary objects are present.

In 1983, human remains representing, at minimum, five individuals were removed from Tuzigoot Pueblo in Yavapai County, AZ, during installation of drainage systems in the Pueblo. No known individuals were identified. No associated funerary objects are present.

In the Federal Register (80 FR 17488, April 1, 2015), column 2, paragraph 1, under the heading “Determinations made by Tuzigoot National Monument,” is corrected by substituting the following paragraphs:

Officials of Tuzigoot National Monument have determined that:

• Pursuant to 25 U.S.C. 3001(9), the human remains described in this notice under the control of Tuzigoot National Monument represent the physical remains of 46 individuals of Native American ancestry.

• Pursuant to 25 U.S.C. 3001(3)(A), the 44 objects described in this notice under the control of Tuzigoot National Monument are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Dorothy FireCloud, Superintendent, Tuzigoot National Monument, P.O. Box 219, Camp Verde, AZ 86322, telephone (928) 567-5276, email dorothy_firecloud@nps.gov, by January 5, 2018. After that date, if no additional requestors have come forward, transfer of control of the human remains and associated funerary objects to the Ak-Chin Indian Community (previously listed as the Ak Chin Indian Community of the Maricopa (Ak Chin) Indian Reservation, Arizona); Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico (hereafter referred to as “The Tribes”) may proceed.

Tuzigoot National Monument is responsible for notifying The Tribes that this notice has been published.

Dated: September 21, 2017.
Melanie O'Brien,
Manager, National NAGPRA Program.

[FR Doc. 2017-26289 Filed 12-5-17; 8:45 am]

BILLING CODE 4312-52-P